NATIONAL SCIENCE FOUNDATION

Advisory Committee for Computer and Information Science and Engineering; Notice of Meeting

In accordance with the Federal Advisory Committee Act (Pub., L. 92-463, as amended), the National Science Foundation (NSF) announces the following meeting:

Name and Committee Code: Advisory Committee for Computer and Information Science and Engineering (#1115).

Date and Time: May 16, 2022-11:00 a.m.-5:00 p.m. (Eastern); May 17, 2022-11:00 a.m.-4:30 p.m. (Eastern)

Place: NSF, 2415 Eisenhower Avenue, Alexandria, VA 22314 (Virtual).

Virtual meeting attendance only; to attend the virtual meeting, please send your request for the virtual meeting link to the following email: cmessam@nsf.gov.

Type of Meeting: Open.

Contact Persons: KaJuana Mayberry, National Science Foundation, 2415 Eisenhower Avenue, Alexandria, VA 22314; Telephone: 703-292-8900; email: kmayberry@nsf.gov

Purpose of Meeting: To provide advice, recommendations and counsel on major goals and policies pertaining to Computer and Information Science and Engineering programs and activities.

Agenda

• NSF and CISE update

• NASEM report on responsible computing research

• NSF activities towards geography of innovation

Reason for Late Notice: Due to the unforeseen scheduling complications and the necessity to proceed with CISE updates and the NASEM reports to the committee.

Dated: May 5, 2022.
Crystal Robinson,
Committee Management Officer.

[FR Doc. 2022-09996 Filed 5-9-22; 8:45 am]

BILLING CODE 7555-01-P